DEPARTMENT OF ENERGY

Federal Energy Regulatory Commission

[Project No. 12723-001]

City of Quincy, IL; Notice of Intent To File License Application, Filing of Pre-Application Document, and Approval of Use of the Traditional Licensing Process

July 30, 2008.

a. Type of Filing: Notice of Intent to File License Application and Request to Use the Traditional Licensing Process.

b. Project No.: 12723-001.

c. Dated Filed: June 2, 2008.

d. Submitted by: City of Quincy, Illinois.

e. Name of Project: Lock and Dam 20 Hydroelectric Project.

f. Location: The project would be located at the U.S. Corps of Engineers Lock and Dam 20, on the Mississippi River in Adams County, Illinois and Lewis County, Missouri.

g. Filed Pursuant to: 18 CFR 5.3 of the Commission's regulations.

h. Applicant Contact: Kenneth Cantrell, Director, Administration Services, City of Quincy, 730 Maine Street, Quincy, IL 62301, (217) 228-4500.

i. FERC Contact: Michael Spencer, (202) 502-6093 or michael.spencer@ferc.gov.

j. City of Quincy, Illinois filed its request to use the Traditional Licensing Process on June 2, 2008. City of Quincy, Illinois filed public notice of its request on July 13, 2008. In a letter dated July 25, 2008, the Director of the Office of Energy Projects approved City of Quincy, Illinois's request to use the Traditional Licensing Process.

k. With this notice, we are initiating informal consultation with: (a) The U.S. Fish and Wildlife Service under section 7 of the Endangered Species Act; and (b) the Virginia State Historic Preservation Officer, as required by section 106, National Historical Preservation Act, and the implementing regulations of the Advisory Council on Historic Preservation at 36 CFR 800.2.

l. City of Quincy, Illinois filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E8-18063 Filed 8-6-08; 8:45 am]

BILLING CODE 6717-01-P